OVERSEAS PRIVATE INVESTMENT CORPORATION

Sunshine Act Meeting Notice

Time and Date: Thursday, December 10, 2015, 2 p.m. (OPEN Portion) 2:15 p.m. (CLOSED Portion)

Place: Offices of the Corporation, Twelfth Floor Board Room, 1100 New York Avenue NW., Washington, DC.

Status: Meeting OPEN to the Public from 2 p.m. to 2:15 p.m. Closed portion will commence at 2:15 p.m. (approx.).

Matters To Be Considered

1. President's Report

2. Tribute—Naomi Walker

3. Minutes of the Open Session of the September 17, 2015 Board of Directors Meeting

Further Matters To Be Considered (Closed to the Public 2:15 p.m.)

1. Finance Project—Africa, South Asia

2. Finance Project—Colombia, Mexico, Peru

3. Finance Project—Asia, Africa

4. Finance Project—Asia, Africa

5. Finance Project—South and Southeast Asia

6. Finance Project—Sub-Saharan Africa

7. Finance Project—Global

8. Finance Project—Sub-Saharan Africa

9. Finance Project—Turkey

10. Minutes of the Closed Session of the September 17, 2015 Board of Directors Meeting

11. Reports

12. Pending Projects

For More Information Contact: Information on the meeting may be obtained from Catherine F. I. Andrade at (202) 336-8768, or via email at Catherine.Andrade@opic.gov.

Dated: November 18, 2015.
Catherine F.I. Andrade,
Corporate Secretary, Overseas Private Investment Corporation.

[FR Doc. 2015-29766 Filed 11-18-15; 11:15 am]

BILLING CODE 3210-01-P